FEDERAL COMMUNICATIONS COMMISSION

[MB Docket No. 06-121]

2006 Quadrennial Regulatory Review

AGENCY: Federal Communications Commission.

ACTION: Notice of meeting.

SUMMARY: The Federal Communications Commission will hold a field hearing regarding media ownership in Tampa-St. Petersburg, Florida on April 30, 2007. The purpose of the hearing is to fully involve the public in the process of the 2006 Quadrennial Broadcast Media Ownership Review that the Commission is currently conducting.

DATES: The hearing will be held on Monday, April 30, 2007 from 4 p.m.-11 p.m.

ADDRESSES: The hearing will be held at the Tampa Bay Performing Arts Center, Louise Lykes Ferguson Hall, 1010 North W.C. MacInnes Place, Tampa, Florida 33602.

FOR FURTHER INFORMATION CONTACT: For additional information about the hearing, please visit the FCC's Web site at http://www.fcc.gov/ownership. Press inquiries should be directed to Clyde Ensslin, at 202-418-0506, or David Fiske, at 202-418-0513.

SUPPLEMENTARY INFORMATION: The Federal Communications Commission will hold a field hearing regarding media ownership in Tampa-St. Petersburg, Florida on April 30, 2007, from 4 p.m.-11 p.m. at the Tampa Bay Performing Arts Center. The purpose of the hearing is to fully involve the public in the process of the 2006 Quadrennial Broadcast Media Ownership Review that the Commission is currently conducting. This hearing is the fourth in a series of media ownership hearings the Commission intends to hold across the country. The hearing is open to the public, and seating will be available on a first-come, first-served basis. The hearing format will enable members of the public to participate via “open microphone.” The hearing format is as follows:

4 p.m.—Welcome/Opening Remarks.

4:30 p.m.—Panel Discussion 1: Market Overview/Tampa, Florida Case Study.

5:30 p.m.—Public Comments.

7:30 p.m.—Break.

8 p.m.—Panel Discussion 2: Perspectives on Media Ownership.

9 p.m.—Public Comments.

11 p.m.—Wrap-Up/Adjournment.

Sign language interpreters and open captioning will be provided for this event. Other reasonable accommodations for people with disabilities are available upon request. Include a description of the accommodation needed, and include a way we can contact you if we need more information. Please make your request as early as possible. Last minute requests will be accepted, but may be impossible to fill. Send an e-mail to fcc504@fcc.gov or call the Consumer & Governmental Affairs Bureau at 202-418-0530 (voice), 202-418-0432 (tty).

A live audio cast of the hearing will be available at the FCC's Web site at www.fcc.gov on a first-come, first-served basis. The public may also file comments or other documents with the Commission and should reference docket number 06-121. Filing instructions are provided at http://www.fcc.gov/ownership/comments.html.

Federal Communications Commission.
Gloria J. Miles,
Federal Register Liaison.

[FR Doc. E7-8192 Filed 4-26-07; 8:45 am]

BILLING CODE 6712-01-P